DEPARTMENT OF THE INTERIOR

National Park Service

National Register of Historic Places; Notification of Pending Nominations

Nominations for the following properties being considered for listing in the National Register were received by the National Park Service before August 16, 2003. Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service, 1201 Eye St. NW., 8th floor, Washington DC 20005; or by fax, 202-371-6447. Written or faxed comments should be submitted by September 30, 2003.

Patrick W. Andrus,
Acting Keeper of the National Register of Historic Places.

ARKANSAS

Benton County

Craig, Charles R., Building, 113 S. Main St., Bentonville, 03000957

Mt. Hebron M.E. Church South and Cemetery, (Benton County MRA)1079 Mt. Hebron Rd., Colville, 03000958

Royal Theatre, 111 S. Market St., Benton, 03000955

Crittenden County

Earle High School, Old, Jct. of Ruth St., and High 2nd St. (US 64B),Earle, 03000956

Howard County

Neal, Noel Owen, House,184 Blue Bayou Rd. S,Nashville, 03000959

Tollette Shop Building,Town Hall Dr.,Tollette, 03000953

Jefferson County

Parker Sr., Dr. John Walter, House,1405 S. Alabama St.,Pine Bluff, 03000947

Logan County

Arkansas Highway 22, Old,(Arkansas Highway History and Architecture MPS)Part of AR 197, AR 197 Loop, and Rainwater Loop,New Blaine, 03000950

Lonoke County

Memphis to Little Rock Road—Brownsville Segment,(Cherokee Trail of Tears MPS)Address Restricted,Brownsville, 03000954

Ouachita County

Rumph House,717 Washington St.,Camden, 03000948

Pulaski County

Hotel Freiderica,625 W. Capitol Ave.,Little Rock, 03000951

Washington County

Son's Chapel,5480 East Mission,Fayetteville, 03000949

Woodruff County

Revel General Store,(Arkansas Highway History and Architecture MPS)Jct. of AR 260 and Woodruff Cty Rd. 17,Revel, 03000952

CALIFORNIA

Plumas County

Ch'ichu'yam-bam,Address Restricted,Crescent Mills, 03000963

COLORADO

Jackson County

Hog Park Guard Station,Routt National Forest,Cowdry, 03000960

Jefferson County

LoDaisKa Site,Address Restricted,Morrison, 03000962

Montezuma County

Wallace Ruin,(Great Pueblo Period of the McElmo Drainage Unit MPS)Address Restricted,Cortez, 03000961

INDIANA

Dubois County

Sturm, Louis H., Hardware Store,516 Main St.,Jasper, 03000975

Elkhart County

Fowler, Solomon, Mansion,11505 W. Vistula St.,Bristol, 03000974

Hendricks County

Campbell, Leander, House,498 E. Broadway St.,Danville, 03000981

Huntington County

Hawley Heights Historic District,Generally bounded by Oak, MacGahan, Cherry, and Collins Sts.,Huntington, 03000983

Jefferson County

Hoyt, Lyman and Asenath, House,7147 W. IN 250,Lancaster, 03000977

Lake County

Griffith E.J. and E. Interlocking Tower,201 S. Broad St.,Griffith, 03000980

Griffith Grand Trunk Depot,201 S. Broad St.,Griffith, 03000985

Marion County

Flanner House Homes,Roughly bounded by Dr. M.L. King Jr. Dr., 12th St., Fall Creek Parkway East Dr., and Lynn St.,Indianapolis, 03000978

Southport High School Old, (Indiana's Public Common and High Schools MPS)6548 Orinoco Ave.,Indianapolis, 03000982

Marshall County

Beardsley Avenue Historic District,405 W to 441 E Beardsley Ave., 700 blk N. Riverside; Island Park,Elkhart, 03000979

Miami County

Westleigh Farms,2107 S. Frances Slocum Trail,Peru, 03000976

Orange County

French Lick Springs Hotel,8670 West IN 56,French Lick, 03000972

Putnam County

Brick Chapel United Methodist Church,3547 N US 231,Greencastle, 03000973

Vigo County

Bethany Congregational Church,201 W. Miller Ave.,West Terre Haute, 03000986

Wayne County

Doddridge Chapel and Cemetery,9465 Chapel Rd.,Centerville, 03000984

MISSOURI

Jackson County

Holy Name Catholic Church,2800 E. 23rd St.,Kansas City, 03000964

NEW YORK

Monroe County

Seneca Park East and West,(Municipal Park System of Rochester, New York MPS)Saint Paul Blvd., Maplewood Dr, Lake Ave.,Rochester, 03000969

NORTH CAROLINA

Craven County

New Bern Historic District (Boundary Increase),Roughly 2 blks of N. Craven, blk on Pasteur St, roughly along Bern, West,Cedar Sts and Trent Court,New Bern, 03000965

Wake County

Poole, Wayland E., House,(Wake County MPS)NC 2555, 0.2 mi. S of jct. with NC 1004 (4800 Auburn-Knightdale Rd.),Auburn, 03000967

Young, Dr. Lawrence Branch, House,(Wake County MPS)119 W. Young St.,Rolesville, 03000966

Warren County

Williams Jr., Solomon and Kate, House, Jct. of NC 58 and NC 1626,Inez, 03000968

TENNESSEE

Rutherford County

Henderson, Logan, Farm,(Historic Family Farms in Middle Tennessee MPS)3600 Manchester Pike,Murfreesboro, 03000971

TEXAS

Fayette County

Dubina Historic District,Roughly bounded by FM 1383 and Cty Rd. 480,Dubina, 03000970

A request for REMOVAL has been made for the following resources:

ARKANSAS

White County

First Christian Church(White County MPS)Jct. Of N. Main and E. Market Sts.Searcy, 91001198

MINNESOTA

Nicollet County

Bridge No. 6422—Saint Peter(Reinforced-Concrete Highway Bridges in Minnesota MPS)MN 99 over Washington Ave. Saint Peter, 99000933

[FR Doc. 03-23345 Filed 9-12-03; 8:45 am]

BILLING CODE 4312-51-P